DEPARTMENT OF DEFENSE

Office of the Secretary

Federal Advisory Committee; Threat Reduction Advisory Committee

AGENCY: Department of Defense (DoD).

ACTION: Renewal of Federal advisory committee.

SUMMARY: Under the provisions of the Federal Advisory Committee Act of 1972, (5 U.S.C. Appendix), the Government in the Sunshine Act of 1976 (5 U.S.C. 552b), and 41 CFR 102-3.50, the Department of Defense gives notice that it is renewing the charter for the Threat Reduction Advisory Committee (hereafter referred to as the Committee).

FOR FURTHER INFORMATION CONTACT: Jim Freeman, Deputy Committee Management Officer for the Department of Defense, 703-601-6128.

SUPPLEMENTARY INFORMATION: The Committee is a discretionary Federal advisory committee established to provide independent advice and recommendations on matters relating to combating weapons of mass destruction to the Secretary of Defense through the Under Secretary of Defense for Acquisition, Technology and Logistics and the Director of the Defense Threat Reduction Agency on the following:

a. Reducing the threat posed by nuclear, biological, chemical, conventional and special weapons to the United States, its military forces, allies and partners;

b. Combating weapons of mass destruction to include non-proliferation, counter proliferation and consequence management;

c. Nuclear deterrence transformation;

d. Weapons effects; and

e. Other Office of the Under Secretary of Defense for Acquisition, Technology and Logistics, and Defense Threat Reduction Agency mission-related matters.

The Under Secretary of Defense for Acquisition, Technology and Logistics shall be authorized to act upon the Committee's advice and recommendations.

The Committee shall be comprised of not more than 30 members who are eminent authorities in the fields of national defense, geopolitical and national security affairs, and weapons of mass destruction.

The Committee members shall be appointed by the Secretary of Defense and their appointments will be renewed on an annual basis. Those members, who are not full-time or permanent part-time federal officers or employees, shall be appointed as experts and consultants under the authority of 5 U.S.C. 3109 and shall serve as special government employees.

With the exception of travel and per diem for travel, Committee members shall normally serve without compensation, unless the Secretary of Defense authorizes compensation for a particular member(s).

The Under Secretary of Defense for Acquisition, Technology and Logistics shall select the Committee's Chairperson from the Committee membership at large.

With DoD approval, the Committee is authorized to establish subcommittees, as necessary and consistent with its mission. These subcommittees or working groups shall operate under the provisions of the Federal Advisory Committee Act of 1972, the Government in the Sunshine Act of 1976 (5 U.S.C. 552b), and other appropriate Federal statutes and regulations.

Such subcommittees or workgroups shall not work independently of the chartered Committee, and shall report all their recommendations and advice to the Committee for full deliberation and discussion. Subcommittees or workgroups have no authority to make decisions on behalf of the chartered Committee nor can they report directly to the Department of Defense or any Federal officers or employees who are not Committee members.

Subcommittee members, who are not Committee members, shall be appointed in the same manner as the Committee members.

The Committee shall meet at the call of the Committee's Designated Federal Officer, in consultation with the Chairperson. The estimated number of Committee meetings is two per year.

The Designated Federal Officer, pursuant to DoD policy, shall be a full-time or permanent part-time DoD employee, and shall be appointed in accordance with established DoD policies and procedures. In addition, the Designated Federal Officer is required to be in attendance at all meetings, however, in the absence of the Designated Federal Officer, the Alternate Designated Federal Officer shall attend the meeting.

Pursuant to 41 CFR 102-3.105(j) and 102-3.140, the public or interested organizations may submit written statements to the Threat Reduction Advisory Committee's membership about the Committee's mission and functions. Written statements may be submitted at any time or in response to the stated agenda of planned meeting of the Threat Reduction Advisory Committee.

All written statements shall be submitted to the Designated Federal Officer for the Threat Reduction Advisory Committee, and this individual will ensure that the written statements are provided to the membership for their consideration. Contact information for the Threat Reduction Advisory Committee Designated Federal Officer can be obtained from the GSA's FACA Database— https://www.fido.gov/facadatabase/public.asp.

The Designated Federal Officer, pursuant to 41 CFR 102-3.150, will announce planned meetings of the Threat Reduction Advisory Committee. The Designated Federal Officer, at that time, may provide additional guidance on the submission of written statements that are in response to the stated agenda for the planned meeting in question.

Dated: May 25, 2010.
Mitchell S. Bryman,
Alternate OSD Federal Register Liaison Officer, Department of Defense.

[FR Doc. 2010-12927 Filed 5-27-10; 8:45 am]

BILLING CODE 5001-06-P